DEPARTMENT OF TRANSPORTATION

Office of the Secretary

Aviation Proceedings, Agreements Filed the Week Ending January 12, 2007

The following Agreements were filed with the Department of Transportation under the Sections 412 and 414 of the Federal Aviation Act, as amended (49 U.S.C. 1382 and 1384) and procedures governing proceedings to enforce these provisions. Answers may be filed within 21 days after the filing of the application.

Docket Number: OST-2007-26869.

Date Filed: January 11, 2007.

Parties: Members of the International Air Transport Association.

Subject:

TC23 Europe-South East Asia, Resolutions and Specified Fares Tables, (Memo 0245).

Technical Correction: TC23/123 Europe-South East Asia, Specified Fares Tables.

For Information only (Memo 0248).

Minutes: TC23 Europe-South East Asia, (Memo 0251).

Intended effective date: 1 April 2007.

Docket Number: OST-2007-26897.

Date Filed: January 12, 2007.

Parties: Members of the International Air Transport Association.

Subject:

TC3 Japan-Korea, Resolutions & Specified Fares Tables, (Memo 1028).

Intended effective date: 1 April 2007.

Docket Number: OST-2007-26898.

Date Filed: January 12, 2007.

Parties: Members of the International Air Transport Association.

Subject:

TC3 Japan, Korea-South East Asia, Except between, Korea (Rep. of) and Guam, Northern Mariana Islands Resolutions & Specified Fares Tables, (Memo 1029).

Intended effective date: 1 April 2007.

Docket Number: OST-2007-26899.

Date Filed: January 12, 2007.

Parties: Members of the International Air Transport Association.

Subject:

TC3 Japan, Korea-South East Asia, between Korea (Rep. of) and Guam, Northern Mariana Islands Resolutions & Specified Fares Tables, (Memo 1030).

Intended effective date: 1 April 2007.

Docket Number: OST-2007-26900.

Date Filed: January 12, 2007.

Parties: Members of the International Air Transport Association.

Subject:

TC3 Within South East Asia, except between Malaysia and Guam, Resolutions & Specified Fares Tables, (Memo 1031).

Intended effective date: 1 April 2007.

Docket Number: OST-2007-26901.

Date Filed: January 12, 2007.

Parties: Members of the International Air Transport Association.

Subject:

TC3 Within South East Asia, from Malaysia to Guam, Resolutions & Specified Fares Tables, (Memo 1032).

Intended effective date: 1 April 2007.

Docket Number: OST-2007-26902.

Date Filed: January 12, 2007.

Parties: Members of the International Air Transport Association.

Subject:

TC3 Areawide Resolutions, (Memo 1033).

Intended effective date: 1 April 2007.

Docket Number: OST-2007-26903.

Date Filed: January 12, 2007.

Parties: Members of the International Air Transport Association.

Subject:

TC3 South East Asia-South West Pacific, Except between Malaysia and American Samoa, Resolutions & Specified Fares Tables, (Memo 1034).

Intended effective date: 1 April 2007.

Docket Number: OST-2007-26905.

Date Filed: January 12, 2007.

Parties: Members of the International Air Transport Association.

Subject:

TC3 South East Asia-South West Pacific, between Malaysia and American Samoa, Resolutions & Specified Fares Tables, (Memo 1035).

Intended effective date: 1 April 2007.

Docket Number: OST-2007-26906.

Date Filed: January 12, 2007.

Parties: Members of the International Air Transport Association.

Subject:

TC3 Japan, Korea-South West Pacific, except between Korea (Rep. of) and American Samoa, Resolutions & Specified Fares Tables, (Memo 1036).

Intended effective date: 1 April 2007.

Docket Number: OST-2007-26907.

Date Filed: January 12, 2007.

Parties: Members of the International Air Transport Association.

Subject:

TC3 Japan, Korea-South West Pacific, between Korea (Rep. of) and American Samoa, Resolutions & Specified Fares Tables, (Memo 1037).

Intended effective date: 1 April 2007.

Docket Number: OST-2007-26908.

Date Filed: January 12, 2007.

Parties: Members of the International Air Transport Association.

Subject:

TC3 Within South West Pacific, except between French Polynesia and American Samoa, Resolutions & Specified Fares Tables, (Memo 1038).

Intended effective date: 1 April 2007.

Docket Number: OST-2007-26909.

Date Filed: January 12, 2007.

Parties: Members of the International Air Transport Association.

Subject:

TC3 Within South West Pacific, between French Polynesia and American Samoa, Resolutions & Specified Fares Tables, (Memo 1039).

Intended effective date: 1 April 2007.

Docket Number: OST-2007-26910.

Date Filed: January 12, 2007.

Parties: Members of the International Air Transport Association.

Subject:

TC3 South Asian Subcontinent—South West Pacific, Resolutions & Specified Fares Tables, (Memo 1040).

Intended effective date: 1 April 2007.

Docket Number: OST-2007-26911.

Date Filed: January 12, 2007.

Parties: Members of the International Air Transport Association.

Subject:

TC3 Within South Asian Subcontinent, Resolutions & Specified Fares Tables, (Memo 1041).

Intended effective date: 1 April 2007.

Docket Number: OST-2007-26912.

Date Filed: January 12, 2007.

Parties: Members of the International Air Transport Association.

Subject:

TC3 Japan, Korea-South Asian Subcontinent, Resolutions & Specified Fares Tables, (Memo 1042).

Intended effective date: 1 April 2007.

Docket Number: OST-2007-26913.

Date Filed: January 12, 2007.

Parties: Members of the International Air Transport Association.

Subject:

TC3 South East Asia-South Asian Subcontinent, Resolutions & Specified Fares Tables, (Memo 1043).

Intended effective date: 1 April 2007.

Renee V. Wright,
Program Manager, Docket Operations, Federal Register Liaison.

[FR Doc. E7-915 Filed 1-22-07; 8:45 am]

BILLING CODE 4910-9X-P